DEPARTMENT OF HEALTH AND HUMAN SERVICES

Centers for Disease Control and Prevention

[Program Announcement Number 00057]

Longitudinal Studies of Rodent Reservoirs of Hantaviruses in the Northwestern United States; Notice of Availability of Funds

A. Purpose

The Centers for Disease Control and Prevention (CDC) announces the availability of fiscal year (FY) 2000 funds for a cooperative agreement program with the Montana Tech University (MTU) for longitudinal studies of rodent reservoirs of hantaviruses in the northwestern United States (U.S.). CDC is committed to achieving the health promotion and disease prevention objectives of “Healthy People 2010”, a national activity to reduce morbidity and mortality and improve the quality of life. This announcement is related to the focus areas of Immunization and Infectious Diseases. For the conference copy of “Healthy People 2010” visit the internet site http://www.health.gov/healthypeople.

The purpose of this cooperative agreement is to continue studies of hantavirus reservoir populations at previously established sites in Cutbank, Polson, Cascade, Gold Creek, Wisdom, and CM Russell Reserve, Montana. The goal of the research is to conduct longitudinal mark-recapture studies to identify and determine the distribution and dynamics of populations of rodents that are confirmed or potential reservoirs of hantaviruses. Preliminary studies have documented the effects of weather fluctuation and other ecological variables on the rodent populations at the designated study sites. The major objective of this cooperative agreement is to support research that appropriately builds upon the ecological information developed at the established sites.

B. Eligible Applicants

Assistance will be provided only to MTU. No other applications are solicited.

MTU was the only applicant that applied under the original Program Announcement 96044 and was subsequently awarded. In previous studies, MTU developed an extensive database on population dynamics and hantavirus infection in rodents and associated environmental conditions at six trapping sites from 1994 to 2000. This unique dataset is the baseline data for the proposed longitudinal studies which will compare newly collected information with the 1994-2000 data. In order to provide for the continuity of long-term data, it is crucial that the proposed study be conducted at the identical sites using the same methodology as the previous studies.

C. Availability of Funds

Approximately $135,000 is available in FY 2000 to fund one award. It is expected that the award will begin on or about September 30, 2000, and will be made for a 12-month budget period within a project period of up to 5 years. The funding estimate may change.

Continuation awards within an approved project period will be made on the basis of satisfactory progress and availability of funds.

D. Program Requirements

In conducting activities to achieve the purpose of this program, the recipient will be responsible for the activities under 1. (Recipient Activities) and CDC will be responsible for conducting activities under 2. (CDC Activities).

1. Recipient Activities

a. Design and conduct longitudinal mark recapture studies of rodents on existing established grids in the northwestern U.S., to identify and determine the distribution and dynamics of populations of rodents that are confirmed or potential reservoirs of hantaviruses.

b. Use ecological techniques that provide continuity of rodent sampling and processing so that data can be appropriately analyzed and correlated with previously collected ecological data from the established sites. Ecological techniques should include capture-mark-release and bleeding of captured animals.

c. Collect and submit blood samples on all captured animals to appropriate laboratories for further analysis and storage.

d. Identify captured rodents and perform morphological measurements and other observations necessary for characterization of rodents.

e. Analyze and publish study results from the individual study sites.

2. CDC Activities

a. Provide consultation and scientific and technical assistance in the design, conduct, and evaluation of the project.

b. Perform appropriate laboratory testing and analysis of blood samples from captured animals, upon request.

c. Analyze study results in collaboration with the recipient.

E. Application Content

Application

Use the information in the Program Requirements, Other Requirements, and Evaluation Criteria sections to develop the application content. The application will be evaluated on the criteria listed, so it is important to follow them in laying out the program plan. The narrative should be no more than 10 double-spaced pages, printed on one side, with one-inch margins, and unreduced font.

F. Submission and Deadline

Application

Submit the original and two copies of PHS 5161-1 (OMB Number 0348-0043). Forms are available at the following Internet Address: www.cdc.gov/...Forms, or in the application kit. On or before July 1, 2000, submit the application to the Grants Management Specialist identified in the “Where to Obtain Additional Information” section of this announcement.

G. Evaluation Criteria

The application will be evaluated individually against the following criteria by an independent review group appointed by CDC.

1. Background and Need (33 Points): Extent to which applicant demonstrates a clear understanding of the purpose and objectives of this proposed cooperative agreement and demonstrates a clear understanding of the requirements, responsibilities, interactions, problems, constraints, complexities, etc., that may be encountered in conducting the project and performing the studies.

2. Capacity and Personnel (33 Points): Extent to which applicant demonstrates past experience of professional personnel in conducting studies similar to those proposed in this cooperative agreement. Extent to which applicant demonstrates it has adequate administrative personnel and support. Extent to which applicant demonstrates it has adequate scientific resources and facilities (including certified BSL-3 laboratory) to successfully conduct the activities.

3. Objectives and Technical Approach (34 Points): Extent to which applicant describes objectives of the proposed project which are consistent with the purpose and goals of this grant/cooperative agreement program and which are measurable and time-phased. Extent to which applicant presents a detailed operational plan for initiating and conducting the project, which clearly and appropriately addresses all “Recipient Activities.” Extent to which applicant clearly identifies specific assigned responsibilities of all key professional personnel. Extent to which the plan clearly describes applicant's technical approach/methods for conducting the proposed studies and extent to which the plan is adequate to accomplish the objectives. Extent to which applicant describes specific study protocols or plans for the development of study protocols that are appropriate for achieving project objectives. Extent to which applicant describes adequate and appropriate collaboration with CDC and/or others during various phases of the project. Extent to which applicant provides a detailed and adequate plan for evaluating study results and for evaluating progress toward achieving project objectives.

4. Budget (Not Scored): Extent to which applicant presents a detailed, line-item budget with a detailed narrative justification (by line-item) that is consistent with the purpose and objectives of this cooperative agreement.

5. Animal Subjects (Not Scored): Does the application adequately address the requirements of PHS Policy on Humane Care and Use of Laboratory Animals?

H. Other Requirements

Technical Reporting Requirements

Provide CDC with the original plus two copies of:

1. Progress reports (semiannual);

2. Financial Status Report (FSR), no more than 90 days after the end of the budget period; and

3. Final FSR and performance report, no more than 90 days after the end of the project period.

Send all reports to the Grants Management Specialist identified in the “Where to Obtain Additional Information” section of this announcement.

The following additional requirements are applicable to this program. For a complete description of each, see Attachment I in the application kit.

AR-3 Animal Subjects Requirements

AR-7 Executive Order 12372 Review

AR-10 Smoke-Free Workplace Requirements

AR-11 Healthy People 2010

AR-12 Lobbying Restrictions

AR-15 Proof of Non-Profit Status

I. Authority and Catalog of Federal Domestic Assistance Number

This program is authorized under sections 301(a) and 317(k)(2) of the Public Health Service Act, [42 U.S.C. sections 241(a) and 247b(k)(2)], as amended. The Catalog of Federal Domestic Assistance number is 93.283.

J. Where To Obtain Additional Information

This and other CDC [ATSDR] announcements can be found on the CDC home page Internet address—http://www.cdc.gov Click on “funding” then “Grants and Cooperative Agreements.”

To obtain additional information, contact: Merlin Williams, Grants Management Specialist, Grants Management Branch, Procurement and Grants Office, Centers for Disease Control and Prevention, Room 3000, 2920 Brandywine Road, Atlanta, GA 30341-4146, Telephone: (770)488-2765, E-mail address: mqw6@cdc.gov.

For program technical assistance, contact: Dr. James N. Mills, Special Pathogens Branch, Division of Viral and Rickettsial Diseases, National Center for Infectious Diseases, Centers for Disease Control and Prevention, 1600 Clifton Road, N.E., M/S G-14, Atlanta, Georgia 30333, Telephone: (404)639-1396.

Dated: May 11, 2000.
Henry S. Cassell, III,
Acting, Director, Procurement and Grants Office, Centers for Disease Control and Prevention (CDC).

[FR Doc. 00-12341 Filed 5-16-00; 8:45 am]

BILLING CODE 4163-18-P